DEPARTMENT OF ENERGY

Federal Energy Regulatory Commission

[Docket No. EC03-84-000, et al.]

Electric Rate and Corporate Regulation Filings

May 16, 2003.

The following filings have been made with the Commission. The filings are listed in ascending order within each docket classification.

1. Tri-State Power, LLC

[Docket No. EC03-84-000]

Take notice that on May 1, 2003, Tri-State Power, LLC (TSP) tendered for filing with the Federal Energy Regulatory Commission (Commission) an application requesting all necessary authorizations under section 203 of the Federal Power Act for the transfer by TSP to Tri-State Generation and Transmission Association, Inc. (Tri-State), in connection with a merger of the two parties, of Tri-State's interests in the jurisdictional assets associated with two approximate 154-megawatt generation plants located near Limon, Colorado, and Brighton, Colorado, respectively (Facilities). The application includes a request for privileged treatment by the Commission.

Comment Date: June 5, 2003.

2. Cleco Power LLC

[Docket No. ER03-685-000]

Take notice that on May 9, 2003, Cleco Power LLC tendered for filing with the Federal Energy Regulatory Commission (Commission), a letter explaining Cleco Power's request in its previous filing made April 1, 2003, in the above captioned docket, for a January 24, 2003, effective date for its Service Agreement No. 66, under FERC Electric Tariff Original Volume No. 1.

Comment Date: May 30, 2003.

3. Pinpoint Power, LLC

[Docket No. ER03-845-000]

Take notice that on May 13, 2003, Pinpoint Power, LLC (Pinpoint Power), an electric power developer organized under the laws of the Commonwealth of Massachusetts, petitioned the Federal Energy Regulatory Commission (Commission) for acceptance of its market-based rate schedule, waiver of certain requirements under subparts B and C of part 35 of the Commission's regulations, and preapproval of transactions under part 34 of the Commission's regulations. Pinpoint Power seeks expedited treatment of this petition to facilitate its response to southwest Connecticut's need for emergency power during the 2003 summer period, and requests that the Commission accept Pinpoint Power's schedule with an effective date of May 30, 2003.

Comment Date: June 3, 2003.

4. FPL Energy Wisconsin Wind, LLC

[Docket No. ER03-846-000]

Take notice that on May 14, 2003, FPL Energy Wisconsin Wind, LLC tendered for filing a Notice of Cancellation pursuant to 18 CFR 35.15, in order to reflect the cancellation of its market-based rate tariff, designated as Rate Schedule FERC No. 1, and a service agreement designated as Rate Schedule FERC No. 2, which were originally accepted for filing in Docket No. ER00-56-000.

Comment Date: June 4, 2003.

5. Consumers Energy Company

[Docket No. ES03-37-000]

Take notice that on May 7, 2003, Consumers Energy Company submitted an application pursuant to section 204 of the Federal Power Act seeking authorization for short-term mortgage bonds in an amount not to exceed $1.1 billion to be used solely as security for other short-term securities.

Comment Date: June 6, 2003.

6. Old Dominion Electric Cooperative

[Docket No. ES03-38-000]

Take notice that on May 12, 2003, Old Dominion Electric Cooperative (Old Dominion) submitted an application pursuant to section 204 of the Federal Power Act seeking authorization to guarantee obligations in an amount not to exceed $100 million at any one time.

Old Dominion also requests a waiver from the Commission's competitive bidding and negotiated placement requirements at 18 CFR 34.2.

Comment Date: June 6, 2003.

7. Rock Springs Generation, LLC

[Docket No. OA03-7-000]

Take notice that on May 12, 2003, Rock Springs Generation, LLC (RSG) tendered for filing with the Federal Energy Regulatory Commission (Commission), written procedures implementing Standards of Conduct and a request for order confirming compliance with Standards of Conduct requirements of Order No. 889.

Comment Date: June 11, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 03-12947 Filed 5-22-03; 8:45 am]

BILLING CODE 6717-01-P